FEDERAL MARITIME COMMISSION

[Docket No. 08-02]

Revocation of Ocean Transportation Intermediary, License No. 016019N—Central Agency of Florida, Inc.; Order to Show Cause

Respondent Central Agency of Florida, Inc. (“Central”) was incorporated in Florida in 1997 and, since 1999, has operated as an ocean transportation intermediary (“OTI”) pursuant to FMC License No. 016019N. According to records maintained by the Commission's Bureau of Certification and Licensing (“BCL”), Central's office is located at 7088 NW 50th Street, Miami, FL 33145.

BCL records identify Patricio Quevedo as Central's President and sole shareholder. Mr. Quevedo is also identified as Central's Qualifying Individual (“QI”). On January 24, 2007, Mr. Quevedo filed an Officer/Director Resignation Form with the State of Florida resigning as an officer of Central.

Commission regulations require an OTI continuously to employ an individual with “a minimum of three years of experience in ocean transportation intermediary activities in the United States, and the necessary character to render ocean transportation intermediary services.” 46 CFR 515.11(a).¹ For a corporation, the QI must be an active corporate officer. 46 CFR 515.11(b). Further, when the QI of a corporation resigns as an officer of that corporation, section 515.18 of the Commission's regulations requires the corporation to notify the Commission of the resignation and to designate a replacement QI within thirty days. 46 CFR 515.18.

¹ The Commission's regulations pertaining to licensing and the responsibilities of OTIs are set forth at 46 CFR Part 515.

Central was licensed on the basis of the qualifications of Mr. Quevedo as QI. Mr. Quevedo, however, resigned as an officer of the corporation. Accordingly, without a QI, Central does not meet the requirements imposed by the Commission's regulations to continue as a licensed OTI. Central has been notified in writing of its noncompliance with the Commission's regulations, and has been advised explicitly of the consequences of failure to designate a replacement QI, including possible revocation of its license.

Section 19(c) of the Shipping Act of 1984, as amended, 46 U.S.C. 40903(a) authorizes the Commission, after notice and the opportunity for a hearing, to:

* * * suspend or revoke an ocean transportation intermediary's license if the Commission finds that the ocean transportation intermediary—

(2) Willfully failed to comply with a provision of this part or with an order or regulation of the Commission.

Now therefore, it is ordered that, pursuant to sections 11 and 19(c) of the Shipping Act of 1984, 46 U.S.C. 41302, 40903(a)(2), Central Agency of Florida, Inc., is directed to show cause, within 30 days of publication of this Order in the Federal Register, why the Commission should not revoke its license for failure to designate and maintain a QI, as required by sections 515.11 and 515.18 of the Commission's regulations, 46 CFR 515.11 and 515.18;

It is further ordered that, pursuant to sections 11 and 19(c) of the Shipping Act of 1984, 46 U.S.C. 41302, 40903(a)(2), Central Agency is directed to show cause, within 30 days of publication of this Order in the Federal Register, why the Commission should not order it to cease and desist from operating as an ocean transportation intermediary in the foreign trade of the United States for failure to designate and maintain a QI, as required by sections 515.11 and 515.18 of the Commission's regulations, 46 CFR 515.11 and 515.18.

It is further ordered that this proceeding is limited to the submission of affidavits of facts and memoranda of law;

It is further ordered that any person having an interest and desiring to intervene in this proceeding shall file a petition for leave to intervene in accordance with Rule 72 of the Commission's Rules of Practice and Procedure, 46 CFR 502.72. Such petition shall be accompanied by the petitioner's memorandum of law and affidavits of fact, if any, and shall be filed no later than the day fixed below;

It is further ordered that Central Agency is named as a Respondent in this proceeding. Affidavits of fact and memoranda of law shall be filed by Respondent and any intervenors in support of Respondent no later than July 11, 2008;

It is further ordered that the Commission's Bureau of Enforcement be made a party to this proceeding;

It is further ordered that reply affidavits and memoranda of law shall be filed by the Bureau of Enforcement and any intervenors in opposition to Respondent no later than August 11, 2008;

It is further ordered that rebuttal affidavits and memoranda of law shall be filed by Respondent and intervenors in support no later than August 26, 2008;

It is further ordered that:

(a) Should any party believe that an evidentiary hearing is required, that party must submit a request for such hearing together with a statement setting forth in detail the facts to be proved, the relevance of those facts to the issues in this proceeding, a description of the evidence which would be adduced, and why such evidence cannot be submitted by affidavit;

(b) Should any party believe that an oral argument is required, that party must submit a request specifying the reasons therefore and why argument by memorandum is inadequate to present the party's case; and

(c) Any request for evidentiary hearing or oral argument shall be filed no later than August 11, 2008;

It is further ordered that notice of this Order to Show Cause be published in the Federal Register, and that a copy thereof be served upon respondent at its last known address;

It is further ordered that all documents submitted by any party of record in this proceeding shall be filed in accordance with Rule 118 of the Commission's Rules of Practice and Procedure, 46 CFR 502.118, as well as being mailed directly to all parties of record;

Finally, it is ordered that pursuant to the terms of Rule 61 of the Commission's Rules of Practice and Procedure, 46 CFR 502.61, the final decision of the Commission in this proceeding shall be issued by December 24, 2008.

By the Commission.
Karen V. Gregory,
Assistant Secretary.

[FR Doc. E8-13080 Filed 6-10-08; 8:45 am]

BILLING CODE 6730-01-P